DEPARTMENT OF DEFENSE

Office of the Secretary

[Docket ID: DOD-2011-OS-0107]

Privacy Act of 1974; System of Records; Correction

AGENCY: National Security Agency/Central Security Service, DOD.

ACTION: Notice to amend a system of records; correction.

SUMMARY: On October 5, 2011 (76 FR 61676-61679), DoD published a notice announcing its intent to amend a Privacy Act System of Records. Categories of Individuals Covered by the System was written incorrectly; and Categories of Records in the System were omitted. This notice corrects that error.

FOR FURTHER INFORMATION CONTACT: National Security Agency/Central Security Service, Freedom of Information Act and Privacy Act Office, 9800 Savage Road, Suite 6248, Ft. George G. Meade, MD 20755-6248 or call by phone at (301) 688-6527.

SUPPLEMENTARY INFORMATION: On October 5, 2011, DoD published a notice announcing its intent to amend a system in its inventory of Privacy Act System of Records: NSA/CSS Employee Assistance Service Case Records. Subsequent to the publication of that notice, DoD discovered that the Categories of Individuals Covered by the System on page 61677 was incorrectly published, and the Categories of Records in the System were omitted.

Correction

In the notice (FR Doc. 2011-OS-0107) published on October 5, 2011, (76 FR 61676-61679) make the following correction. On page 61677, in the third column, replace the Categories of Individuals Covered by the System paragraph with “NSA/CSS civilian employees, military assignees, and family members who voluntarily request counseling assistance. Non-NSA federal employees and third-party employees (foreign nationals) who are detailed to NSA/CSS.”

After this paragraph insert: “CATEGORIES OF RECORDS IN THE SYSTEM:

Files consist of the individual's full name, Social Security Number (SSN), address and case records compiled by counselor and patient questionnaires, questionnaires completed by private counselors to whom clients are referred, the records of medical treatment and services, correspondence with personal physicians and other care providers, NSA/CSS Medical Center reports, results of psychological assessment testing and interviews, psychiatric examination results and related reports.”

Dated: November 7, 2011.
Aaron Siegel,
Alternate OSD Federal Register Liaison Officer, Department of Defense.

[FR Doc. 2011-29201 Filed 11-10-11; 8:45 am]

BILLING CODE 5001-06-P